DEPARTMENT OF COMMERCE

INTERNATIONAL TRADE ADMINISTRATION

[A-570-970]

Multilayered Wood Flooring From the People's Republic of China: Notice of Court Decision Not in Harmony With the Final Results of the Second Antidumping Duty Administrative Review

AGENCY: Enforcement and Compliance, International Trade Administration, Department of Commerce.

SUMMARY: On December 10, 2020, the United States Court of International Trade (the Court) entered final judgment sustaining the final results of the second remand redetermination pursuant to court order by the Department of Commerce (Commerce) pertaining to the antidumping duty administrative review of multilayered wood flooring (MLWF) from the People's Republic of China (China) covering the period of review (POR), December 1, 2012 through November 30, 2013. Commerce is notifying the public that the final judgment in this case is not in harmony with Commerce's final results in the 2012-2013 administrative review of MLWF from China.

DATES: Applicable December 20, 2020

FOR FURTHER INFORMATION CONTACT: Aleksandras Nakutis, Office IV, Enforcement and Compliance, International Trade Administration, U.S. Department of Commerce, 1401 Constitution Avenue NW, Washington, DC, 20230; telephone: (202) 482-3147.

SUPPLEMENTARY INFORMATION:

Background

On July 15, 2015, Commerce published the Final Results in the 2012-2013 administrative review of multilayered wood flooring from China in which Commerce assigned a rate of 13.74 percent to Jiangsu Senmao Bamboo and Wood Industry Co., Ltd. (Senmao) and all separate rate respondents in the Final Results.¹ Commerce applied the weighted-average dumping margin of Senmao (the only mandatory respondent to receive a rate that was not de minimis or based solely on adverse facts available) to all parties eligible for a separate rate, pursuant to section 735(c)(5)(A) of the Tariff Act of 1930, as amended (the Act).²

¹ See Multilayered Wood Flooring From the People's Republic of China: Final Results of Antidumping Duty Administrative Review and Final Results of New Shipper Review; 2012-2013, 80 FR 41476 (July 15, 2015) (Final Results).

² Id.

Senmao and certain separate rate respondents appealed the Final Results. In its first remand order, the Court directed Commerce to reconsider or further explain certain of its surrogate value selections, its downward adjustment for irrevocable VAT, as well as its decision to deny voluntary respondent status to Fine Furniture (Shanghai) Limited (Fine Furniture).³ Upon reconsidering these issues in the First Remand Redetermination, Commerce made certain changes and calculated a revised weighted-average dumping margin for Senmao and the separate rate companies.⁴

³ See Jiangsu Senmao Bamboo and Wood Industry Co., Ltd., et al. , v. United States, 322 F. Supp 3d 1308 (CIT 2018) (Senmao I).

⁴ See Final Results of Redetermination Pursuant to Court Order, Jiangsu Senmao Bamboo and Wood Industry Co., Ltd., et al. , v. United States, dated June 3, 2019 (First Remand Redetermination).

In Senmao II, the Court affirmed the First Remand Redetermination as it pertained to the surrogate value selections.⁵ However, the Court found that Commerce's downward adjustment for irrevocable VAT was contrary to law in relying upon an unlawful interpretation of the Act.⁶ The Court, thus, remanded the case, so that Commerce could correct the error regarding the downward adjustment for irrevocable VAT.

⁵ See Jiangsu Senmao Bamboo and Wood Industry Co., Ltd., et al., v. United States, Court No. 15-00225. Slip Op. 20-31 (March 11, 2020) (Senmao II).

⁶ Id.

In the Second Remand Redetermination,⁷ Commerce removed the downward adjustment for irrevocable VAT as directed by the Court and revised the weighted-average dumping margin for Senmao to 3.92 percent.⁸ Additionally, because the rate for separate rate respondents was based entirely on Senmao's weighted-average dumping margin, Senmao's margin of 3.92 percent was applied to those separate rate respondents which were party to the litigation.

⁷ See Final Results of Redetermination Pursuant to Court Order, Jiangsu Senmao Bamboo and Wood Industry Co., Ltd., et al., v. United States, dated May 8, 2020 (Second Remand Redetermination).

⁸ Id.

On December 10, 2020, the Court entered final judgment in Senmao III.⁹ The Court sustained the Second Remand Redetermination excluding any downward adjustment for irrevocable VAT and revising the weighted-average dumping margin for Senmao and the other separate rate entities that are party to the litigation.

⁹ See Jiangsu Senmao Bamboo and Wood Industry Co., Ltd., et al. v. United States, Consol. Court No. 19-00225 (Senmao III). In Senmao III, the Court did not address a previous issue concerning Fine Furniture. However, on September 9, 2020, the Court granted Fine Furniture's request to dissolve its injunction covering subject entries during the POR, ECF No. 174, because Fine Furniture and Double F Limited are excluded from the order and no party sought appeal of Changzhou Hawd Flooring Co. v. United States, 947 F.3d 781 (Fed Cir. 2020) (affirming Fine Furniture and Double F Limited's exclusion from the order). Accordingly, because Fine Furniture and Double F Limited are excluded from the order, the issue regarding Fine Furniture is moot.

Timken Notice

In its decision in Timken, as clarified by Diamond Sawblades, the CAFC held that, pursuant to section 516A(e) of the Act, Commerce must publish a notice of a court decision that is not “in harmony” with Commerce's determination and must suspend liquidation of entries pending a “conclusive” court decision. The Court's December 10, 2020 final judgment affirming the Second Remand Redetermination ¹⁰ constitutes a final decision of the Court that is not in harmony with the Final Results.¹¹ This notice is published in fulfillment of the publication requirements of Timken.

¹⁰ Id.

¹¹ See Final Results.

Amended Final Determination

There is now a final court decision with respect to the Final Results with respect to the irrevocable VAT adjustment. Accordingly, Commerce is amending the Final Results and assigning the revised weighted-average dumping margin for Senmao and the separate rate respondents which are parties to the litigation. Additionally, Commerce is amending the revised weighted-average dumping margins for these companies as follows:

Exporter ¹² | Weighted- average dumping margin (percent)
Jiangsu Senmao Bamboo and Wood Industry Co., Ltd | 3.92
Baishan Huafeng Wooden Product Co., Ltd., (aka Baishan Huafeng Wood Product Co., Ltd.) | 3.92
Changbai Mountain Development and Protection Zone Hongtu Wood Industrial Co., Ltd | 3.92
Chinafloors Timber (China) Co., Ltd | 3.92
Dalian Kemian Wood Industry Co., Ltd | 3.92
Dalian Penghong Floor Products Co., Ltd | 3.92
Dalien Qianqiu Wooden Product Co., Ltd | 3.92
Dasso Industrial Group Co., Ltd | 3.92
Dongtai Fuan Universal Dynamics, LLC | 3.92
Dunhua City Hongyuan Wood Industry Co., Ltd | 3.92
Dun Hua Sen Tai Wood Co., Ltd | 3.92
Dunhua City Wanrong Wood Industry Co., Ltd | 3.92
Fusong Jinlong Wooden Group Co., Ltd | 3.92
Fusong Jinqiu Wooden Product Co., Ltd | 3.92
Fusong Qianqiu Wooden Product Co., Ltd | 3.92
Guangdong Yihua Timber Industry Co., Ltd | 3.92
Guangzhou Panyu Kangda Board Co., Ltd | 3.92
HaiLin LinJing Wooden Products, Ltd | 3.92
Hangzhou Hanje Tec Co., Ltd | 3.92
Hangzhou Zhengtian Industrial Co., Ltd | 3.92
Hunchun Forest Wolf Wooden Industry Co., Ltd | 3.92
Huzhou Chenghang Wood Co., Ltd | 3.92
Huzhou Fulinmen Imp. & Exp. Co., Ltd | 3.92
Jiafeng Wood (Suzhou) Co., Ltd | 3.92
Jiangsu Guyu International Trading Co., Ltd | 3.92
Jiangsu Kentier Wood Co., Ltd | 3.92
Jiangsu Mingle Flooring Co., Ltd.¹³ | 3.92
Jiangsu Simba Flooring Co., Ltd.¹⁴ | 3.92
Jiashan HuiJiale Decoration Material Co., Ltd | 3.92
Jilin Forest Industry Jinqiao Flooring Group Co., Ltd | 3.92
Kemian Wood Industry (Kunshan) Co., Ltd | 3.92
Metropolitan Hardwood Floors, Inc | 3.92
Mudanjiang Bosen Wood Industry Co., Ltd | 3.92
Nakahiro Jyou Sei Furniture (Dalian) Co., Ltd | 3.92
Nanjing Minglin Wooden Industry Co., Ltd | 3.92
Puli Trading Limited | 3.92
Shanghai Eswell Timber Co., Ltd | 3.92
Shanghai Shenlin Corp | 3.92
Shanghai Lizhong Wood Products Co., Ltd./The Lizhong Wood Industry Limited Company of Shanghai/Linyi Youyou Wood Co., Ltd | 3.92
Shenyang Haobainian Wooden Co., Ltd | 3.92
Shenzhenshi Huanwei Woods Co., Ltd | 3.92
Suzhou Dongda Wood Co., Ltd.¹⁵ | 3.92
Tongxiang Jisheng Import and Export Co., Ltd | 3.92
Xuzhou Shenghe Wood Co., Ltd | 3.92
Yingyi-Nature (Kunshan) Wood Industry Co., Ltd | 3.92
Zhejiang Dadongwu Greenhome Wood Co., Ltd | 3.92
Zheijiang Fudeli Timber Industry Co., Ltd | 3.92
Zhejiang Fuma Warm Technology Co., Ltd | 3.92
Zhejiang Longsen Lumbering Co., Ltd | 3.92
Zhejiang Shiyou Timber Co., Ltd | 3.92
Zhejiang Tianzhen Bamboo & Wood Development Co., Ltd | 3.92

Cash Deposit Requirements

¹² Imports of subject merchandise from the following are excluded: Produced and exported by Fine Furniture (Shanghai) Limited (Fine Furniture) and Double F Limited; produced and exported by Armstrong Wood Products (Kunshan) Co., Ltd. (Armstrong); and produced and exported by Dunhua City Jisen Wood Industry Co., Ltd. (Dunhua City Jisen).

¹³ Commerce inadvertently omitted this company from the Second Remand Redetermination; however, this company is entitled to the revised rate as it was subject to the administrative review and was a party to litigation.

¹⁴ Commerce inadvertently omitted this company from the Second Remand Redetermination; however, this company is entitled to the revised rate as it was subject to the administrative review and was a party to litigation.

¹⁵ Commerce inadvertently omitted this company from the Second Remand Redetermination; however, this company is entitled to the revised rate as it was subject to the administrative review and was a party to litigation.

Because Senmao and the separate rate companies have superseding cash deposit rates, i.e. , there have been final results published in a subsequent administrative review, this notice will not affect the current cash deposit rates.

Liquidation of Suspended Entries

If the Court's final judgment is not appealed, or if appealed and upheld, Commerce will instruct CBP to terminate the suspension of liquidation, and to liquidate and to assess duties at a rate of 3.92 percent for entries during the POR that were exported by the companies listed above.

On April 10, 2019, for Armstrong, and on July 24, 2020 and September 9, 2020, respectively, for Dunhua City Jisen and Fine Furniture, pursuant to Court order lifting the injunctions Commerce issued liquidation instructions to CBP instructing CBP to liquidate entries for the 2012-2013 POR without regard to duties given these companies' exclusion from the order.

Notification to Interested Parties

This notice is issued and published in accordance with sections 516A(e)(1), 751(a)(1), and 777(i)(1) of the Act.

Dated: December 17, 2020.
Joseph A. Laroski Jr.,
Deputy Assistant Secretary for Policy and Negotiations.

[FR Doc. 2020-28400 Filed 12-21-20; 4:15 pm]

BILLING CODE 3510-DS-P